DEPARTMENT OF TRANSPORTATION

Federal Aviation Administration

14 CFR Part 71

Docket No. FAA-2013-0528; Airspace Docket No. 13-ANM-16

Establishment of Class E Airspace; Wasatch, UT

AGENCY: Federal Aviation Administration (FAA), DOT.

ACTION: Final rule.

SUMMARY: This action establishes Class E airspace at the Wasatch VHF Omni-Directional Radio Range Tactical Air Navigational Aid (VORTAC) navigation aid, Wasatch, UT, to facilitate vectoring of Instrument Flight Rules (IFR) aircraft under control of Salt Lake City Air Route Traffic Control Center (ARTCC). This improves the safety and management of IFR operations within the National Airspace System. This action also makes a minor adjustment to the geographic coordinates of the Wasatch VORTAC navigation aid.

DATES: Effective date, 0901 UTC, December 12, 2013. The Director of the Federal Register approves this incorporation by reference action under 1 CFR Part 51, subject to the annual revision of FAA Order 7400.9 and publication of conforming amendments.

FOR FURTHER INFORMATION CONTACT: Eldon Taylor, Federal Aviation Administration, Operations Support Group, Western Service Center, 1601 Lind Avenue SW., Renton, WA 98057; telephone (425) 203-4537.

SUPPLEMENTARY INFORMATION:

History

On July 10, 2013, the FAA published in the Federal Register a notice of proposed rulemaking (NPRM) to amend controlled airspace at Wasatch, UT (78 FR 41336). Interested parties were invited to participate in this rulemaking effort by submitting written comments on the proposal to the FAA. No comments were received. Subsequent to publication, the FAA's Aeronautical Products office found the geographic coordinates of the Wasatch VORTAC needed to be corrected. This action makes the correction.

Class E airspace designations are published in paragraph 6006, of FAA Order 7400.9X dated August 7, 2013, and effective September 15, 2013, which is incorporated by reference in 14 CFR 71.1. The Class E airspace designations listed in this document will be published subsequently in that Order.

The Rule

This action amends Title 14 Code of Federal Regulations (14 CFR) Part 71 by establishing Class E en route domestic airspace extending upward from 1,200 feet above the surface, at the Wasatch VORTAC navigation aid, Wasatch, UT, to accommodate IFR aircraft under control of Salt Lake City ARTCC by vectoring aircraft from en route airspace to terminal areas. This action is necessary for the safety and management of IFR operations. The geographic coordinates of the VORTAC are adjusted from (Lat. 40°51′10″ N., long. 111°58′55″ W.) to (Lat. 40°51′01″ N., long. 111°58′55″ W.) in accordance with the FAA's aeronautical database. Except for administrative changes, and the changes listed above, this rule is the same as that proposed in the NPRM.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified this rule, when promulgated, does not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes controlled airspace at the Wasatch VORTAC, Wasatch, UT.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9X, Airspace Designations and Reporting Points, dated August 7, 2013, and effective September 15, 2013 is amended as follows:

Paragraph 6006 En Route Domestic Airspace Areas.

* * * * *

ANM UT E6 Wasatch, UT [New]

Wasatch VORTAC, UT

(Lat. 40°51′01″ N., long. 111°58′55″ W.)

That airspace extending upward from 1,200 feet above the surface within an area bounded by Lat. 42°27′00″ N., long. 113°22′00″ W.; to Lat. 41°41′49″ N., long. 109°29′35″ W.; to Lat. 41°26′15″ N., long. 109°19′46″ W.; to Lat. 41°10′22″ N., long. 109°42′26″ W.; to Lat. 40°21′23″ N., long. 109°42′25″ W.; to Lat. 39°59′03″ N., long. 110°43′27″ W.; to Lat. 39°37′44″ N., long. 111°07′28″ W.; to Lat. 39°03′55″ N., long. 110°37′49″ W.; to Lat. 38°28′51″ N., long. 110°38′05″ W.; to Lat. 38°10′56″ N., long. 111°24′19″ W.; to Lat. 37°50′39″ N., long. 112°24′51″ W.; to Lat. 37°30′00″ N., long. 112°03′30″ W.; to Lat. 37°30′00″ N., long. 113°00′00″ W.; to Lat. 37°32′02″ N., long. 113°07′15″ W.; to Lat. 37°48′00″ N., long. 113°30′00″ W.; to Lat. 38°23′43″ N., long. 113°12′48″ W.; to Lat. 38°19′56″ N., long. 114°09′07″ W.; to Lat. 38°28′04″ N., long. 114°21′28″ W.; to Lat. 39°38′25″ N., long. 114°42′19″ W.; to Lat. 40°06′57″ N., long. 114°37′44″ W.; to Lat. 40°40′40″ N., long. 114°28′45″ W.; to Lat. 41°08′22″ N., long. 114°57′44″ W.; to Lat. 42°00′00″ N., long. 114°42′42″ W., thence to the point of beginning.

Issued in Seattle, Washington, on September 11, 2013.
Christopher Ramirez,
Acting Manager, Operations Support Group, Western Service Center.

[FR Doc. 2013-22840 Filed 9-20-13; 8:45 am]

BILLING CODE 4910-13-P